DEPARTMENT OF AGRICULTURE

Region 5 and Region 6; California, Oregon, and Washington; Forest Plan Amendment for Planning and Management of Northwest Forests Within the Range of the Northern Spotted Owl; Correction

AGENCY: Forest Service, Agriculture (USDA).

ACTION: Notice; correction.

The Office of the Federal Register published a correction in the Federal Register of January 2, 2024, which corrected the date in notice document 2023-27742 [88 FR 87393] from January 29, 2024, to February 1, 2024, as the due date for comments to be received. However, the due date needs to match the date sent out in the associated scoping letters to the public and tribes, a date which was set to coordinate with the closing date of the national old growth amendment Notice of Intent.

Correction

In the Federal Register of December 18, 2023, in FR Doc. 2023-27742, on page 87393, in the second column toward the end under DATES, is listed “Comments concerning the scope of the analysis are most valuable to the Forest Service if received by January 29, 2024.” In the Federal Register of January 2, 2024, in FR Doc. C1-2023-27742, on page 43, in the first column, January 29, 2024, is corrected to February 1, 2024. The DATES caption should read instead:

DATES: Comments concerning the scope of the analysis are most valuable to the Forest Service if received by February 2, 2024.

Dated: January 4, 2024.
Jacqueline Emanuel,
Associate Deputy Chief, National Forest System.

[FR Doc. 2024-00311 Filed 1-9-24; 8:45 am]

BILLING CODE 3411-15-P